DEPARTMENT OF ENERGY

Federal Energy Regulatory Commission

[Docket Nos. ER04-156-000, ER04-156-001, and EL04-41-000]

Notice of Initiation of Proceeding and Refund Effective Date

January 5, 2004.

Allegheny Power System Operating Companies: Monongahela Power Company, Potomac Edison Company, and West Penn Power Company, all d/b/a Allegheny Power; PHI Operating Companies: (Consolidated) Potomac Electric Power Company, Delmarva Power & Light Company, and Atlantic City Electric Company; Baltimore Gas and Electric Company; Jersey Central Power & Light Company; Metropolitan Edison Company; PECO Energy Company; Pennsylvania Electric Company; PPL Electric Utilities Corporation; Public Service Electric and Gas Company; Rockland Electric Company; and UGI Utilities, Inc.

Take notice that on January 2, 2004, the Commission issued an order in the above-indicated Docket Nos. initiating a proceeding in Docket No. EL04-41-000 under Section 206 of the Federal Power Act.

The refund effective date in Docket No. EL04-41-000 will be 60 days after publication of this notice in the Federal Register.

Magalie R. Salas,
Secretary.

[FR Doc. E4-34 Filed 1-9-04; 8:45 am]

BILLING CODE 6717-01-P